DEPARTMENT OF HOMELAND SECURITY

Federal Emergency Management Agency

[Docket ID FEMA-2024-0002; Internal Agency Docket No. FEMA-B-2472]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
California:
Orange | City of Anaheim (24-09-1187X) | The Honorable Ashleigh Aitken, Mayor, City of Anaheim, 200 South Anaheim Boulevard, 7th Floor, Anaheim, CA 92805 | City Hall, 200 South Anaheim Boulevard, Anaheim, CA 92805 | https://msc.fema.gov/portal/advanceSearch | Feb. 14, 2025 | 060213
Orange | City of Placentia (24-09-1187X) | The Honorable Jeremy B. Yamaguchi, Mayor, City of Placentia, 401 East Chapman Avenue, Placentia, CA 92870 | Development Services Department, 401 East Chapman Avenue, Placentia, CA 92870 | https://msc.fema.gov/portal/advanceSearch | Feb. 14, 2025 | 060229
Colorado:
El Paso | City of Manitou Springs (24-08-0006P) | The Honorable John Graham, Mayor, City of Manitou Springs, 606 Manitou Avenue, Manitou Springs, CO 80829 | Pikes Peak Regional Building Department Floodplain Management Office, 2880 International Circle, Colorado Springs, CO 80910 | https://msc.fema.gov/portal/advanceSearch | Jan. 21, 2025 | 080063
Larimer | Town of Wellington (24-08-0267P) | The Honorable Calar Chaussee, Mayor, Town of Wellington, P.O. Box 127, Wellington, CO 80549 | Town Hall, 3735 Cleveland Street, Wellington, CO 80549 | https://msc.fema.gov/portal/advanceSearch | Jan. 29, 2025 | 080104
Florida:
Manatee | Unincorporated areas of Manatee County (24-04-3397P) | Charlie Bishop, Manatee County Administrator, 1112 Manatee Avenue West, Bradenton, FL 34205 | Manatee County, Administration Building, 1112 Manatee Avenue West, Bradenton, FL 34205 | https://msc.fema.gov/portal/advanceSearch | Feb. 14, 2025 | 120153
Monroe | Village of Islamorada (24-04-4610P) | The Honorable Joseph Buddy Pinder III, Mayor, Village of Islamorada, 86800 Overseas Highway, Islamorada, FL 33036 | Building Department, 86800 Overseas Highway, Islamorada, FL 33036 | https://msc.fema.gov/portal/advanceSearch | Feb. 7, 2025 | 120424
Polk | Unincorporated areas of Polk County (23-04-4569P) | Bill Beasley, Polk County Manager, 330 West Church Street, Bartow, FL 33830 | Polk County Land Development Division, 330 West Church Street, Bartow, FL 33830 | https://msc.fema.gov/portal/advanceSearch | Jan. 23, 2025 | 120261
Illinois:
DuPage | Unincorporated areas of DuPage County (23-05-1793P) | Deborah Conroy, Chair, DuPage County Board, 421 North County Farm Road, Wheaton, IL 60187 | DuPage County Administration Building Stormwater Management, 421 North County Farm Road, Wheaton, IL 60187 | https://msc.fema.gov/portal/advanceSearch | Jan. 27, 2025 | 170197
McHenry | Village of Algonquin (24-05-0682P) | Debby Sosine, Village President, Village of Algonquin, 2200 Harnish Drive, Algonquin, IL 60102 | Village Hall, 2200 Harnish Drive, Algonquin, IL 60102 | https://msc.fema.gov/portal/advanceSearch | Feb. 24, 2025 | 170474
Indiana:
Tippecanoe | City of West Lafayette (23-05-0732P) | The Honorable Erin Easter, Mayor, City of West Lafayette, 222 North Chauncey Avenue, West Lafayette, IN 47906 | City Hall, 222 North Chauncey Avenue, West Lafayette, IN 47906 | https://msc.fema.gov/portal/advanceSearch | Feb. 18, 2025 | 180254
Tippecanoe | Unincorporated areas of Tippecanoe County (23-05-0732P) | The Honorable Tracy Brown, President, Tippecanoe County Board of Commissioners, 20 North 3rd Street, 1st Floor, Lafayette, IN 47901 | Tippecanoe County Administration Building, 20 North 3rd Street, Lafayette, IN 47901 | https://msc.fema.gov/portal/advanceSearch | Feb. 18, 2025 | 180428
Kentucky: Fayette | Lexington-Fayette Urban County Government (23-04-6269P) | The Honorable Linda Gorton, Mayor, Lexington-Fayette Urban County Government, 200 East Main Street, Lexington, KY 40507 | Fayette County Phoenix Building, 101 East Vine Street, 4th Floor, Lexington, KY 40507 | https://msc.fema.gov/portal/advanceSearch | Feb. 18, 2025 | 210067
Minnesota:
Dodge | City of Mantorville (24-05-1406P) | The Honorable Chuck Bradford, Mayor, City of Mantorville, P.O. Box 188, 21 5th Street East, Mantorville, MN 55955 | City Hall, 21 5th Street East, Mantorville, MN 55955 | https://msc.fema.gov/portal/advanceSearch | Feb. 7, 2025 | 270585
Dodge | Unincorporated areas of Dodge County (24-05-1406P) | Rodney Peterson, Commissioner, District 3, Dodge County Board of Commissioners, 721 Main Street North, Department 31, Mantorville, MN 55955 | Dodge County Environmental Services Department, 721 Main Street North, Department 123, Mantorville, MN 55955 | https://msc.fema.gov/portal/advanceSearch | Feb. 7, 2025 | 270548
Missouri: Johnson | City of Holden (24-07-0417P) | The Honorable Ray Briscoe, Mayor, City of Holden, 101 West 3rd Street, Holden, MO 64040 | City Hall, 101 West 3rd Street, Holden, MO 64040 | https://msc.fema.gov/portal/advanceSearch | Feb. 10, 2025 | 290714
North Carolina:
Alexander | Unincorporated areas of Alexander County (24-04-1106P) | Marty Pennell, Chair, Alexander County Board of Commissioners, 621 Liledoun Road, Taylorsville, NC 28681 | Alexander County Planning and Development Department, 151 West Main Avenue, Suite 7, Taylorsville, NC 28681 | https://msc.fema.gov/portal/advanceSearch | Jan. 23, 2025 | 370398
Avery | Unincorporated areas of Avery County (23-04-6256P) | Tim Phillips, Chair, Avery County Board of Commissioners, P.O. Box 640, Newland, NC 28657 | Avery County Planning Department, 200 Old Montezuma Road, Newland, NC 28657 | https://msc.fema.gov/portal/advanceSearch | Jan. 9, 2025 | 370010
Caldwell | Unincorporated areas of Caldwell County (24-04-2160P) | Randy Church, Chair, Caldwell County Board of Commissioners, P.O. Box 2200, Lenoir, NC 28645 | Caldwell County Planning and Development Department, 2345 Morganton Boulevard Southwest, Lenoir, NC 28645 | https://msc.fema.gov/portal/advanceSearch | Jan. 22, 2025 | 370039
Iredell | Town of Mooresville (24-04-1233P) | The Honorable Chris Carney, Mayor, Town of Mooresville, 413 North Main Street, Mooresville, NC 28815 | Planning Department, 413 North Main Street, Mooresville, NC 28815 | https://msc.fema.gov/portal/advanceSearch | Jan. 27, 2025 | 370314
Mecklenburg | City of Charlotte (22-09-2871P) | The Honorable Vi Alexander Lyles, Mayor, City of Charlotte, 600 East 4th Street, Charlotte, NC 28202 | Mecklenburg County Stormwater Services Division, 2145 Suttle Avenue, Charlotte, NC 28208 | https://msc.fema.gov/portal/advanceSearch | Jan. 9, 2025 | 370159
Mecklenburg | Town of Pineville (22-09-2871P) | The Honorable David Phillips, Mayor, Town of Pineville, P.O. Box 249, Pineville, NC 28134 | Mecklenburg County Stormwater Services Division, 2145 Suttle Avenue, Charlotte, NC 28208 | https://msc.fema.gov/portal/advanceSearch | Jan. 9, 2025 | 370160
Union | City of Monroe (24-04-2810P) | The Honorable Robert Burns, Mayor, City of Monroe, 300 West Corwell Street, Monroe, NC 28112 | City Hall, 300 West Corwell Street, Monroe, NC 28112 | https://msc.fema.gov/portal/advanceSearch | Jan. 28, 2025 | 370236
Wake | Town of Cary (23-04-4024P) | The Honorable Harold Weinbrecht, Mayor, Town of Cary, P.O. Box 8005, Cary, NC 27512 | Stormwater Services Division, 316 North Academy Street, Cary, NC 27513 | https://msc.fema.gov/portal/advanceSearch | Jan. 24, 2025 | 370238
South Carolina: Richland | City of Columbia (24-04-5321P) | The Honorable Daniel J. Rickenmann, Mayor, City of Columbia, 1737 Main Street, Columbia, SC 29201 | City Hall, 1737 Main Street, Columbia, SC 29201 | https://msc.fema.gov/portal/advanceSearch | Feb. 18, 2025 | 450172
Texas:
Denton | City of Fort Worth (24-06-1006P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Feb. 10, 2025 | 480596
Denton | Town of Northlake (24-06-1006P) | Drew Corn, Manager, Town of Northlake, 1500 Commons Circle, Suite 300, Northlake, TX 76226 | Development Services Department, 1700 Commons Circle, Suite 200, Northlake, TX 76226 | https://msc.fema.gov/portal/advanceSearch | Feb. 10, 2025 | 480782
Denton | Unincorporated areas of Denton County (24-06-1006P) | The Honorable Andy Eads, Denton County Judge, 1 Courthouse Drive, Suite 3100, Denton, TX 76208 | Denton County Development Services Department, 3900 Morse Street, Denton, TX 76208 | https://msc.fema.gov/portal/advanceSearch | Feb. 10, 2025 | 480774
Denton | Unincorporated areas of Denton County (24-06-2149P) | The Honorable Andy Eads, Denton County Judge, 1 Courthouse Drive, Suite 3100, Denton, TX 76208 | Denton County Development Services Department 3900 Morse Street Denton, TX 76208 | https://msc.fema.gov/portal/advanceSearch | Feb. 18, 2025 | 480774
Navarro | City of Corsicana (23-06-2188P) | The Honorable Mike Fletcher, Mayor, City of Corsicana, 200 North 12th Street, Corsicana, TX 75110 | City Hall, 200 North 12th Street, Corsicana, TX 75110 | https://msc.fema.gov/portal/advanceSearch | Feb. 5, 2025 | 480498
Navarro | Unincorporated areas of Navarro County (23-06-2188P) | The Honorable H.M. Davenport, Jr., Navarro County Judge, 300 West 3rd Avenue, Suite 102, Corsicana, TX 75110 | Navarro County Courthouse, 300 West 3rd Avenue, Corsicana, TX 75110 | https://msc.fema.gov/portal/advanceSearch | Feb. 5, 2025 | 480950
Taylor | Unincorporated areas of Taylor County (24-06-0933P) | The Honorable Phil Crowley, Taylor County Judge, 400 Oak Street, Suite 300, Abilene, TX 79602 | Taylor County Administration Building, 400 Oak Street, Suite 300, Abilene, TX 79602 | https://msc.fema.gov/portal/advanceSearch | Feb. 4, 2025 | 481014
Williamson | City of Jarrell (24-06-0042P) | The Honorable Patrick Sherek, Mayor, City of Jarrell, 161 Town Center Boulevard, Jarrell, TX 76537 | City Hall, 161 Town Center Boulevard, Jarrell, TX 76537 | https://msc.fema.gov/portal/advanceSearch | Apr. 4, 2025 | 480111
Wisconsin: Waupaca | Unincorporated areas of Waupaca County (24-05-1652P) | David Morack, Chair, Waupaca County Board of Supervisors, 811 Harding Street, Waupaca, WI 54981 | Waupaca County Courthouse, 811 Harding Street, Waupaca, WI 54981 | https://msc.fema.gov/portal/advanceSearch | Feb. 21, 2025 | 550492

[FR Doc. 2024-25877 Filed 11-6-24; 8:45 am]

BILLING CODE 9110-12-P